DEPARTMENT OF TRANSPORTATION

Pipeline and Hazardous Materials Safety Administration

Actions on Special Permit Applications

AGENCY: Pipeline and Hazardous Materials Safety Administration (PHMSA), DOT.

ACTION: Notice of Actions on Special Permit Applications.

SUMMARY: In accordance with the procedures governing the application for, and the processing of, special permits from the Department of Transportation's Hazardous Material Regulations (49 CFR part 107, subpart B), notice is hereby given of the actions on special permits applications in (December to December 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on January 10, 2013.
Donald Burger,
Chief, Special Permits and Approvals Branch.

S.P. No. | Applicant | Regulation(s) | Nature of special permit thereof
MODIFICATION SPECIAL PERMIT GRANTED
14227-M | Aluminum Tank Industries, Inc. Winter Haven, FL | 49 CFR 177.834(h), 178.700 | To modify the special permit to authorize pumps and hoses attached to discharge outlets during transportation if certain requirements are met.
NEW SPECIAL PERMIT GRANTED
15671-N | Formulated Solutions Largo, FL | 49 CFR 173.306(a)(3)(v) | To authorize construction of DOT 2P or DOT 2Q non-refillable aerosol container using an alternative leak test in lieu of the hot water bath. (modes 1, 2, 3, 4)
15690-N | Duke Energy Corp. Charlotte, NC | 49 CFR 171.8; 172.300; 172.400; 172.500; 173.6; 177.817; Part 178 | To authorize the transportation in commerce of test kits containing minor amounts of alkali metal dispersed in mineral oil. (mode 1)
EMERGENCY SPECIAL PERMIT GRANTED
15766-N | Gateway Pyrotechnic Production, LLC, dba Gateway Fireworks Displays St. Louis, MO | 49 CFR 172.301, 172.320 and 173.56 | To authorizes the one-time, one-way transportation in commerce of approximately 46,000 pounds gross weight of unapproved fireworks from Dayton, OH to an approved storage bunker in Illiopolis, IL by motor vehicle. (mode 1)
NEW SPECIAL PERMIT WITHDRAWN
15675-N | The Boeing Company St. Louis, MO | 49 CFR 172.101 Column (9B) | To authorize the one-time transportation in commerce of certain explosives that are forbidden for transportation by cargo only aircraft. (mode 4)
15684-N | Pratt & Whitney Rocketdyne, Inc Canoga Park, CA | 49 CFR 173.185(a)(4) | To authorize the transportation in commerce of power systems that consist of lithium ion battery assemblies. (mode 1)
DENIED
14912-M | Request by ITW Sexton Decatur, AL December 20, 2012. To authorize the addition of a Division 2.1 material and require burst pressure of containers to not be below 480 psig.
15719-N | Request by Ameripak Pontiac, MI December 20, 2012. To authorize the manufacture, mark, sale and use of UN5OD plywood box for the transportation in commerce of lithium batteries.

[FR Doc. 2013-00704 Filed 1-16-13; 8:45 am]

BILLING CODE 4909-60-M